DEPARTMENT OF COMMERCE

Foreign-Trade Zones Board

[Order No. 1331]

Expansion and Reorganization of Foreign-Trade Zone 202: Los Angeles, CA, Area

Pursuant to its authority under the Foreign-Trade Zones Act of June 18, 1934, as amended (19 U.S.C. 81a-81u), the Foreign-Trade Zones Board (the Board) adopts the following Order:

Whereas, the Board of Harbor Commissioners of the City of Los Angeles, grantee of Foreign-Trade Zone 202, submitted an application to the Board for authority to expand and reorganize FTZ 202 to extend authority at Sites 12, 13 and 14, to restore 44 acres to Site 9, to delete 78 acres from Site 3, to expand existing Site 1 (at Howard Hartry, Inc. facility), to expand existing Site 2 (at Exel Global Logistics Inc. facility), and to include 7 new sites to the zone project at the Artesia Corridor Commerce Park (Site 16), Tri-Modal's Lucerne and Watson Center facilities (Site 17), Tri-Modal's Carson facility (Site 18), Chino South Business Park (Site 19), Park Mira Loma West (Site 20), Pattillo—Redlands Commerce Center (Site 21), and, Bixby—Redlands Business Center (Site 22), within and adjacent to the Los Angeles-Long Beach Customs port of entry area (FTZ Docket 54-2002; filed 11/21/02; amended 4/2/03 and 1/7/04);

Whereas, notice inviting public comment was given in the Federal Register (application: 67 FR 72643, 12/6/02; amendments: 68 FR 17342, 4/9/03 and 69 FR 6252, 1/13/04) and the application has been processed pursuant to the FTZ Act and the Board's regulations; and,

Whereas, the Board adopts the findings and recommendations of the examiner's report, and finds that the requirements of the FTZ Act and the Board's regulations would be satisfied, and that the proposal, as amended, would be in the public interest if subject to certain conditions;

Now, therefore, the Board hereby orders:

The application to expand FTZ 202, as amended, is approved, subject to the Act and the Board's regulations, including Section 400.28, and subject to the Board's standard 2,000-acre activation limit for the overall zone project, and further subject to a time limit (to July 1, 2009) for each of the sites or additions listed above.

Signed at Washington, DC, this 30th day of April 2004.
Attest:
Dennis Puccinelli,
Executive Secretary.
James J. Jochum,
Assistant Secretary of Commerce for Import Administration, Alternate Chairman, Foreign-Trade Zones Board.

[FR Doc. 04-10670 Filed 5-10-04; 8:45 am]

BILLING CODE 3510-DS-P